DEPARTMENT OF AGRICULTURE

Forest Service

Madera County Resource Advisory Committee

AGENCY: Forest Service, USDA.

ACTION: Notice of Resource Advisory Committee Meeting.

SUMMARY: Pursuant to the authorities in the Federal Advisory Committee Act of 1972 (Pub. L. 92-463) and under the secure Rural Schools and Community Self-Determination Act of 2000 (Pub. L. 106-393) the Sierra National Forest's Resource Advisory Committee for Madera County will meet on Monday, September 15, 2003. The Madera Resource Advisory Committee will meet at the Spring Valley Elementary School in O'Neals, CA. The purpose of the meeting is: review any new RAC proposals, review new Forest Service Region 5 RAC Web site, finalize Madera County RAC mission, clarify voting procedures, discuss how to get voting members to meeting to vote, how to better advertise for RAC projects from the community and discuss participation in the Regional RAC conference.

DATES: The Madera Resource Advisory Committee meeting will be held Monday, September 15, 2003. The meeting will be held from 7 p.m. to 9 p.m.

ADDRESSES: The Madera County RAC meeting will be held at the Spring Valley Elementary School, 46655 Road 200, O'Neals, CA 93645.

FOR FURTHER INFORMATION CONTACT: Dave Martin, U.S.D.A., Sierra National Forest, 57003 Road 225, North Fork, CA, 93643 (559) 877-2218 ext. 3100; e-mail: dmartin05@fs.fed.us.

SUPPLEMENTARY INFORMATION: Agenda items to be covered include: (1) Review any new RAC proposals, (2) review new Forest Service Region 5 RAC Web site, (3) finalize Madera County RAC mission, (4) clarify voting procedures, (5) discuss how to get voting members to meeting to vote, (6) how to better advertise for RAC projects from the community and (7) discuss participation in the Regional RAC conference. Public input opportunity will be provided and individuals will have the opportunity to address the Committee at that time.

Dated: August 25, 2003.
David W. Martin,
District Ranger.

[FR Doc. 03-22251 Filed 8-29-03; 8:45 am]

BILLING CODE 3410-11-M